DEPARTMENT OF TRANSPORTATION

Research and Special Programs Administration

49 CFR Part 195

[Docket No. RSPA-01-8663; Amdt. 195-75]

RIN 2127-AD56

Pipeline Safety: Hazardous Liquid Accident Reporting

AGENCY: Office of Pipeline Safety, Research and Special Programs Administration.

ACTION: Final rule; correction.

SUMMARY: The Research and Special Programs Administration published a final rule in the Federal Register on January 8, 2002, regarding changes to the reporting requirements for hazardous liquid pipeline accidents. The effective date of this rule was inadvertently published as January 1, 2002. The correct effective date of this final rule is February 7, 2002.

FOR FURTHER INFORMATION CONTACT: Roger Little by phone at (202) 366-4569, by e-mail at roger.little@rspa.dot.gov, or by mail at the U.S. Department of Transportation (DOT), Research and Special Programs Administration, Office of Pipeline Safety, Room 7128, 400 7th Street, SW., Washington, DC 20590.

Correction

In the Federal Register issue of January 8, 2002, 67 FR 831, in the DATES heading, correct the effective date to ready February 7, 2002.

Issued in Washington, DC, February 6, 2002.
Ellen G. Engleman
Administrator.

[FR Doc. 02-3319 Filed 2-11-02; 8:45 am]

BILLING CODE 4910-60-P